DEPARTMENT OF TRANSPORTATION

Federal Transit Administration

Notice of Intent To Prepare an Environmental Impact Statement for the Ballard Link Extension Project, King County, Washington

AGENCY: Federal Transit Administration (FTA), Department of Transportation (DOT).

ACTION: Notice of intent to prepare an environmental impact statement (EIS).

SUMMARY: The Federal Transit Administration (FTA), as lead Federal agency, and the Central Puget Sound Regional Transit Authority (Sound Transit), as local project sponsor and joint lead agency, issue this notice to advise the public that they intend to prepare an environmental impact statement (EIS) pursuant to the National Environmental Policy Act (NEPA) for the Ballard Link Extension Project (Project) located in the City of Seattle, King County, Washington.

DATES: Comments related to the NEPA review of this project must be received on or before December 9, 2024. FTA will consider comments received after that date to the extent practicable. FTA will consider all comments received during this NEPA scoping period and those previously submitted during the Washington State Environmental Policy Act (SEPA) scoping process. Commenters who previously provided SEPA scoping comments do not need to resubmit those same comments for consideration under NEPA, but may elect to do so.

ADDRESSES: Comments on the scope of the EIS should be directed to: Lauren Swift, Central Corridor Environmental Manager, 401 South Jackson Street, Seattle, WA 98104, by email to: lauren.swift@soundtransit.org, or by phone at 206-398-5301.

FOR FURTHER INFORMATION CONTACT: For FTA: Erin Littauer, erin.littauer@dot.gov, 206-220-7521. For Sound Transit: Lauren Swift, lauren.swift@soundtransit.org, 206-398-5301.

SUPPLEMENTARY INFORMATION: The Project would extend existing light rail service along a 7.7-mile corridor through downtown Seattle, from SODO to Ballard, and include a new 3.3-mile light rail-only tunnel from south of the Chinatown-International District to South Lake Union and Seattle Center/Uptown. Stations would serve the following areas: Chinatown-International District, Midtown, Westlake, Denny, South Lake Union, Seattle Center, Smith Cove, Interbay, and Ballard. FTA has created the following “Unique Identification Number” that will be included on all environmental documents for this project: EISX-021-36-R10-1728553542.

FTA, as NEPA Federal lead agency, and Sound Transit, as joint lead agency for NEPA and lead agency under the Washington State Environmental Policy Act (SEPA), issued a Notice of Intent/Scoping Notice in February 2019 and later published a combined NEPA/SEPA Draft EIS in January 2022 that evaluated both the West Seattle Link Extension and the Ballard Link Extension together as a single project: the West Seattle and Ballard Link Extensions Project (WSBLE). The extensions were evaluated together in the WSBLE Draft EIS because of their location, schedule, and review efficiencies for partner agencies.

In July 2022, the Sound Transit Board directed Sound Transit staff to prepare further studies evaluating additional station options and other refinements for the Ballard Link Extension (BLE). Some of these project options and refinements required additional conceptual engineering and environmental review. Rather than delay completion of the environmental review process for the West Seattle Link Extension while additional review was conducted for BLE, Sound Transit and FTA decided to move forward under separate environmental reviews for each extension. As described in the WSBLE Draft EIS, the two extensions will operate as separate lines, and the extensions are stand-alone projects with independent utility.

Because the environmental review processes are now separated for the two extensions, Sound Transit is preparing a SEPA Supplemental Draft EIS that evaluates the new station options and refinements for the BLE. FTA has determined that a new NEPA Draft EIS be prepared for the BLE, because it is now being evaluated independently from the West Seattle extension. The NEPA process requires that project scoping be repeated with a 30-day public comment period. Scoping for BLE has been extended with a 45-day public comment period. The scoping process and Draft EIS for the BLE will build on the analysis completed for the WSBLE Draft EIS.

Comments made during the previous scoping process (February 19 through April 2, 2019) will be carried forward and considered, as will all of the relevant analysis of alternatives and environmental impacts included in the 2022 Draft EIS. At the conclusion of the NEPA scoping process, FTA and Sound Transit anticipate issuing the Draft NEPA EIS and SEPA Supplemental Draft EIS, including the new information and analysis.

FTA has determined that the project will not be evaluated as a major project as defined in 23 U.S.C. 139(a)(7).

I. Purpose and Need for the Project

The purpose of the project is to expand the Sound Transit Link light rail system from SODO to Ballard, to make appropriate community investments to improve mobility, and to increase capacity and connectivity for regional connections in order to achieve the following:

• Provide rapid, reliable, and efficient light rail transit service to communities in the project corridor as defined through the local planning process and reflected in the regional transit system plan, Sound Transit 3 Plan (https://www.soundtransit.org/get-to-know-us/documents-reports/sound-transit-3).

• Improve regional mobility by increasing connectivity and capacity through Downtown Seattle to meet the projected transit demand.

• Connect regional centers as described in adopted regional and local land use, transportation, and economic development plans and Sound Transit's Regional Transit Long-Range Plan (https://www.soundtransit.org/sites/default/files/documents/2015123_lrpupdate.pdf).

• Implement a system that is technically and financially feasible to build, operate, and maintain.

• Expand mobility for the corridor and the region's residents, which include transit-dependent residents, low-income people, and communities of color.

• Encourage equitable and sustainable urban growth in station areas through support of transit-oriented development and multi-modal integration in a manner that is consistent with local land use plans and policies, including Sound Transit's Equitable Transit-Oriented Development Policy (https://www.soundtransit.org/system-expansion/creating-vibrant-stations/transit-oriented-development) and Sustainability Plan (https://www.soundtransit.org/get-to-know-us/documents-reports/2019-sustainability-plan).

• Encourage convenient and safe non-motorized access to stations, such as bicycle and pedestrian connections, consistent with Sound Transit's System Access Policy (https://www.soundtransit.org/system-expansion/creating-vibrant-stations/connecting-to-stations).

• Preserve and promote a healthy environment and economy by minimizing adverse impacts on the natural, built, and social environments through sustainable practices.

The need for the project is as follows:

• When measured using national standards, existing transit routes between SODO and Ballard currently operate with poor reliability. Roadway congestion in the project corridor will continue to degrade transit performance and reliability as the city is expected to add approximately 287,000 people and approximately 214,000 jobs between 2018 and 2050 (Puget Sound Regional Council 2023).

• Increased ridership from regional population and employment growth will increase operational frequency in the existing Downtown Seattle Transit Tunnel, requiring additional tunnel capacity.

• Puget Sound Regional Council (the regional metropolitan planning organization) and local plans call for high-capacity transit in the corridor consistent with VISION 2050 (https://www.psrc.org/planning-2050/vision-2050) and the Regional Transit Long-Range Plan (https://www.soundtransit.org/sites/default/files/documents/2015123_lrpupdate.pdf).

• The region's residents and communities, including transit-dependent people, low-income people, and communities of color, need long-term regional mobility and multi-modal connectivity as called for in the Washington State Growth Management Act (Revised Code of Washington 36.70A.108).

• Regional and local plans call for increased residential and/or employment density at and around high-capacity transit stations, and increased options for multi-modal access. VISION 2050 has a goal for 65 percent of the region's population and 75 percent of the region's employment to occur in regional growth centers and within walking distance of transit.

• Environmental and sustainability goals of the State and region, as established in Washington State law and embodied in Puget Sound Regional Council's VISION 2050 (2020) and 2022-2050 Regional Transportation Plan (2022), include reducing greenhouse gas emissions by prioritizing transportation investments that decrease vehicle miles traveled.

II. Description of Proposed Action and Alternatives

Each light rail extension build alternative is approximately 7.7 miles long and includes up to nine stations that serve the following areas: Chinatown-International District, Midtown, Westlake, Denny, South Lake Union, Seattle Center, Smith Cove, Interbay, and Ballard. FTA and Sound Transit may also examine several design options and potential minimal operable segments for the proposed alternatives. Information about the proposed project, the alternatives development process, scoping, and the EIS process are available on the project website: https://www.soundtransit.org/system-expansion/ballard-link-extension, by contacting the project sponsor at ballardlink@soundtransit.org, or the project phone line at (206) 903-7223. For purposes of this notice, the proposed build alternatives can be generally described as follows:

A new downtown tunnel would begin in the vicinity of the Stadium station in SODO, head north with alignments between 4th Avenue S and 6th Avenue S through the Chinatown-International District, then travel northwest below 4th Avenue, 5th Avenue or 6th Avenue through Midtown and Westlake. The alternatives would continue in a tunnel configuration along Westlake Avenue N to South Lake Union with a station near Denny Way before turning northwest with a station near Aurora Avenue N between Harrison and Roy streets. The alternatives would continue in a tunnel towards Seattle Center with a station on either Republican or Mercer Streets. The alternatives then turn north and begin to transition to elevated or retained cut configurations to serve a Smith Cove station along Elliott Avenue W. From the Smith Cove station, the alternatives either continue in an elevated configuration along 15th Avenue W or transition to a retained cut along the east side of the Burlington Northern Santa Fe (BNSF) railway tracks to an elevated or retained cut station in Interbay near W Dravus Street. From the Interbay station, alternatives transition to the east of 15th Avenue W and cross Salmon Bay in a tunnel or on a high-level fixed bridge. One alternative would continue in an elevated alignment along 15th Avenue W and cross Salmon Bay on the west side of 15th Avenue W on a movable bridge. Station options in Ballard include elevated and tunnel stations near NW Market Street on 15th Avenue NW or 14th Avenue NW.

The build alternatives could also include transit-related roadway, bicycle, maritime, and pedestrian projects by Sound Transit or others. These improvements may be eligible for Federal funding and could be part of the transit project or constructed together with it as part of a joint effort with agency partners, thereby meriting joint environmental analysis. This could include access improvements around station areas and over waterway crossings. Sound Transit would identify these improvements and could include them as part of the project as it works with partner agencies.

III. Summary of Expected Impacts

Consistent with NEPA, FTA and Sound Transit will evaluate, with input from the public, Tribes, and agencies, the potential impacts of the alternatives on the natural, built, and social environments. Likely areas of investigation include, transportation (including navigable waterways), land use and consistency with applicable plans, land acquisition and displacements, socioeconomics, park and recreation resources, historic and cultural resources, environmental justice, visual and aesthetic qualities, air quality, noise and vibration, energy use, safety and security, and ecosystems, including threatened and endangered species and marine mammals. The EIS will evaluate short-term construction impacts and long-term operational impacts. It will also consider indirect and cumulative impacts. The EIS will also propose measures to avoid, minimize, or mitigate significant adverse impacts.

FTA and Sound Transit will comply with all Federal environmental laws, regulations, and executive orders applicable to the proposed project during the environmental review process.

IV. Anticipated Federal Permits and Other Authorizations

Federal Transit Administration

NEPA Final Environmental Impact Statement and Record of Decision

National Historic Preservation Act Section 106 Review

United States Department of Transportation Act of 1966, Section 4(f)

Land and Water Conservation Fund Act of 1965, Section 6(f) (if needed)

Federal Emergency Management Agency

Conditional Letter of Map Revision (if needed)

Letter of Map Revision (if needed)

United States Army Corps of Engineers

Clean Water Act, Section 404 (if needed) (including WA Department of Ecology Water Quality Certification: Clean Water Act Section 401)

Rivers and Harbors Act, Section 10 (if needed)

United States Code Title 33 Section 408 Review (if needed)

United States Coast Guard

United States Coast Guard Bridge Permit (if needed)

United States Fish and Wildlife Service

Federal Endangered Species Review

National Oceanic and Atmospheric Administration Fisheries Service

Federal Endangered Species Review

Essential Fish Habitat Review

Marine Mammal Take Incidental Harassment Authorization (if needed)

United States Department of the Interior

National Historic Preservation Act Section 106 Review

United States Department of Transportation Act of 1966, Section 4(f)

V. Schedule for the Decision-Making Process

Below is a tentative schedule for the decision-making process, including environmental review milestones:

Draft EIS publication: April 2025.

Confirmation or modification of the Preferred Alternative: July 2025.

Final EIS publication: May 2026.

Record of Decision: October 2026.

As noted in the tentative schedule, the Agencies intend to complete the EIS for the Project within two years, measured from the date of the publication of this notice to the date the record of decision (ROD) is signed. The Agencies will accept public comments on the scope of the EIS (i.e., the information presented in this notice and at https://www.soundtransit.org/system-expansion/ballard-link-extension) until December 9, 2024. The Agencies will then consider those comments as they prepare the Draft EIS. The Agencies will announce the availability of the Draft EIS in the Federal Register and via local media outlets. Sound Transit expects the Draft EIS will be available for a minimum of 45 days for the public comment period in Spring 2025. The Draft EIS will be distributed and available for public and agency review and comment prior to a public hearing. The Agencies will consider substantive comments timely submitted during the public comment period and comments previously submitted for WSBLE and then anticipate preparing a Final EIS in Spring 2026 and ROD in Fall 2026. The Final EIS will identify a preferred alternative and any necessary mitigation commitments. The Agencies expect that all Federal environmental authorization decisions for the construction of the Project will be completed within a reasonable period following issuance of the ROD.

Notices of public meetings, including hearings, have been, and will continue to be, given through a variety of media providing the time and place of the meeting along with other relevant information. Meeting date, time, and location information can be found on the Project website at https://www.soundtransit.org/system-expansion/ballard-link-extension.

Public meeting locations will comply with the Americans with Disabilities Act. People requesting special accommodations should contact Sound Transit via email at ballardlink@soundtransit.org.

Susan K. Fletcher,
Regional Administrator, FTA Region 10.

[FR Doc. 2024-24585 Filed 10-23-24; 8:45 am]

BILLING CODE 4910-57-P